DEPARTMENT OF DEFENSE

Office of the Secretary

Establishment of the Defense Acquisition Performance Assessment Project

AGENCY: Department of Defense.

ACTION: Notice; Establishment of the Defense Acquisition Performance Assessment Project.

SUMMARY: The Defense Acquisition Performance Assessment Project is being established in consonance with the public interest and in accordance with the provisions of Pub. L. 92-463, the “Federal Advisory Committee Act,” title 5 U.S.C., Appendix 2. The Project will provide to the Secretary of Defense recommendations on how the Department of Defense, in general, and other services can improve the performance of the Defense Acquisition System for major programs. The recommendations will inform the 2006 Quadrennial Defense Review and form the basis of an implementation action plan.

The Project will consist of a balanced membership of six members who are eminent authorities in the field of Defense acquisition.

FOR FURTHER INFORMATION CONTACT: Col Al Boykin, Defense Acquisition Performance Assessment Project, 1060 Air Force Pentagon (4E886), Washington DC 20330-1060, Telephone: (703) 695-8772, DSN # 225-8772, Fax: (703) 693-4303, alan.boykin@pentagon.af.mil.

Dated: June 17, 2005.
Jeannette Owings-Ballard,
OSD Federal Register Liaison Officer, Department of Defense.

[FR Doc. 05-12425 Filed 6-22-05; 8:45 am]

BILLING CODE 5001-06-P